DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Antarctic Marine Living Resources Conservation and Management Measures.

OMB Control Number: 0648-0194.

Form Number(s): NA.

Type of Request: Regular submission (revision and extension of a current information collection).

Number of Respondents: 86.

Average Hours per Response: Ecosystem monitoring application and annual report, one hour each; applications for new or exploratory fisheries, 28 hours; harvest/transshipment applications, 2 hours; occasional radio transmissions to NMFS and phone calls to request an observer, 5 minutes each; vessel monitoring system installation, certification and annual maintenance, annualized to 3 hours; vessel marking, 45 minutes; gear marking, 2 hours; import and/or re-export permit applications and dealer preapproval of catch and re-export catch documents and import tickets, 15 minutes each; catch data submission, 30 minutes.

Burden Hours: 386.

Needs and Uses: This request is for revision and extension of a current information collection. The revision refers to minor changes to the re-export catch document.

The 1982 Convention on the Conservation of Antarctic Marine Living Resources (Convention) established the Commission for the Conservation of Antarctic Marine Living Resources (CCAMLR). CCAMLR meets annually to adopt measures to conserve and manage the marine living resources of the Convention Area. The United States is a Contracting Party to the Convention and a member of CCAMLR and its Scientific Committee. The Antarctic Marine Living Resources Convention Act (AMLRCA) directs and authorizes the United States to take actions necessary to meet its treaty obligations as a Contracting Party to the Convention. The regulations implementing AMLRCA are at 50 CFR part 300, Subpart G.

The recordkeeping and reporting requirements at 50 CFR part 300 form the basis for this collection of information. The reporting requirements included in this collection concern CCAMLR Ecosystem Monitoring Program activities, United States (U.S.) harvesting permit applicants and/or harvesting vessel operators, and U.S. importers and re-exporters of Antarctic Marine Living Resources.

Affected Public: Business or other for-profit organizations.

Frequency: Annually and on occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: March 20, 2013.
Gwellnar Banks,
Management Analyst, Office of the Chief Information Officer.

[FR Doc. 2013-06721 Filed 3-22-13; 8:45 am]

BILLING CODE 3510-22-P